DEPARTMENT OF THE TREASURY

United States Mint

Senior Executive Service Combined Performance Review Board (PRB)

AGENCY: United States Mint, Department of the Treasury.

ACTION: Notice.

SUMMARY: Pursuant to 5 U.S.C. 4314(c)(4), this notice announces the appointment of members of the Combined Performance Review Board (PRB) for the Bureau of Engraving and Printing (BEP), Financial Management Service (FMS), Bureau of the Public Debt (BPD), United States Mint (USM), Alcohol and Tobacco Tax and Trade Bureau (TTB) and Financial Crimes Enforcement Network (FINCEN). The Board reviews the performance appraisals of career senior executives below the level of bureau head and principal deputy in the bureaus, except for executives below the Assistant Commissioner/Executive Director level in the Financial Management Service and Bureau of the Public Debt. The Board makes recommendations regarding proposed performance appraisals, ratings, bonuses, pay adjustments and other appropriate personnel actions.

Composition of Combined PRB: The Board shall consist of at least three voting members. In the case of an appraisal of a career appointee, more than half of the members shall consist of career appointees. The names and titles of the Combined PRB members are as follows:

Primary Members

Wanda Rogers, Deputy Commissioner, FMS.

Anita Shandor, Deputy Commissioner, BPD.

Pamela J. Gardiner, Deputy Director, BEP.

Andrew D. Brunhart, Deputy Director, USM.

Mary G. Ryan, Deputy Administrator, TTB.

Charles M. Steele, Deputy Director, FINCEN.

Alternate Members

John Kopec, Assistant Commissioner, Business Architecture, FMS.

Lori Santamorena, Executive Director, Government Securities Regulations Staff, BPD.

Scott Wilson, Associate Director, Management, BEP.

Marty Greiner, Chief Financial Officer, USM.

John Manfreda, Administrator, TTB.

Diane K. Wade, Associate Director, Management Programs Division, FINCEN.

DATES: Membership is effective on 09/30/2010.

FOR FURTHER INFORMATION CONTACT: Andrew D. Brunhart, Deputy Director, United States Mint; 801 9th Street, NW.; Washington, DC 20220; or call 202-354-7200.

Authority: 5 U.S.C. 4314(c)(4).

Dated: September 27, 2010.
Andrew D. Brunhart,
Deputy Director, United States Mint.

[FR Doc. 2010-24630 Filed 9-30-10; 8:45 am]

BILLING CODE P